DEPARTMENT OF COMMERCE

National Oceanic and Atmospheric Administration

[RTID 0648-XB844]

Pacific Island Fisheries; Experimental Fishing Permit

AGENCY: National Marine Fisheries Service (NMFS), National Oceanic and Atmospheric Administration (NOAA), Commerce.

ACTION: Notice; issuance of permit.

SUMMARY: NMFS is issuing an experimental fishing permit (EFP) to the Hawaii Longline Association (HLA) to evaluate the risk of seabird interactions in the Hawaii shallow-set longline fishery when setting fishing gear one hour before and one hour after local sunset and using tori lines instead of required blue-dyed bait and strategic offal discharge as seabird mitigation measures. The intent of the EFP is to conduct a preliminary evaluation of potential alternative effective methods of discouraging seabird interactions while providing operational flexibility during setting in the shallow-set longline fishery.

DATES: The EFP is authorized from March 24, 2022, through September 24, 2023.

ADDRESSES: Copies of the EFP, HLA's application, and supporting documents are available at https://www.regulations.gov/docket/NOAA-NMFS-2021-0128.

FOR FURTHER INFORMATION CONTACT: Heather Cronin, Sustainable Fisheries, NMFS Pacific Islands Regional Office, tel (808) 725-5179.

SUPPLEMENTARY INFORMATION: NMFS is issuing an EFP to the HLA under the authority of the Magnuson-Stevens Fishery Conservation and Management Act, the Fishery Ecosystem Plan for Pelagic Fisheries of the Western Pacific, and regulations at 50 CFR 665.17. Under the EFP, HLA will conduct a pilot test of tori lines (bird scaring streamers) as replacement seabird mitigation measures to discourage seabird interactions during setting in the Hawaii shallow-set longline fishery. The purpose of the experiment is to test new ways to mitigate seabird interactions that also increase operational flexibility during setting. HLA will use one vessel to test tori lines as an alternate seabird mitigation measure to currently required blue-dyed bait, strategic offal discharge, and night setting measures (50 CFR 665.815(a)(2) & (4)).

On December 15, 2021, NMFS published a notice of HLA's EFP application and request for public comments (86 FR 71234). NMFS received comments from 2 individuals and considered those comments before making a final decision to issue the EFP. One commenter expressed support for any strategy or technology that reduces interactions with seabirds. The other expressed opposition to the EFP stating, “it will wipe out stocks and jeopardize the [sic] continued existence of these stocks . . . .” NMFS expects that fishing under the EFP will have similar environmental impacts on seabirds as well as target fish species, non-target fish species, and non-seabird protected species as conventional shallow-set longline fishing. The project is limited in scale (only 3 vessels, setting a combined total of 80 sets with no more than one vessel operating at any given time), proposes a minor change in fishing operations that does not have the potential to change the overall effects of the fishery, and will be effective for no longer than 18 months. All other requirements would continue, including seabird mitigation measures such as strategic offal discharge during hauling and safe handling practices.

In addition, gear configurations and operations under the EFP would be compliant with international seabird mitigation requirements under the Western and Central Pacific Fisheries Commission and the Inter-American Tropical Tuna Commission. More information about the EFP may be found in the December 15, 2021 notice, and in HLA's EFP application (see ADDRESSES).

The EFP is effective March 24, 2022, through September 24, 2023, unless revoked, suspended, or modified earlier.

Authority: 16 U.S.C. 1801 et seq.

Dated: March 15, 2022.
Ngagne Jafnar Gueye,
Acting Director, Office of Sustainable Fisheries, National Marine Fisheries Service.

[FR Doc. 2022-05768 Filed 3-17-22; 8:45 am]

BILLING CODE 3510-22-P